DEPARTMENT OF TRANSPORTATION

Federal Aviation Administration

14 CFR Part 39

[Docket No. FAA-2019-0656; Product Identifier 2019-SW-039-AD; Amendment 39-19722; AD 2019-17-02]

RIN 2120-AA64

Airworthiness Directives; Airbus Helicopters Deutschland GmbH

AGENCY: Federal Aviation Administration (FAA), Department of Transportation (DOT).

ACTION: Final rule; request for comments.

SUMMARY: The FAA is adopting a new airworthiness directive (AD) for Airbus Helicopters Deutschland GmbH (Airbus Helicopters) Model EC135P1, EC135P2, EC135P2+, EC135P3, EC135T1, EC135T2, EC135T2+, and EC135T3 helicopters. This AD requires inspecting certain part-numbered actuators for corrosion, and removing them from service as necessary. This AD also requires reporting certain information to Airbus Helicopters. This AD is prompted by a hard landing of a helicopter and discovery of a ruptured and displaced tie bar inside the piston of the longitudinal single-axis actuator of the main rotor actuator (MRA). The actions of this AD are intended to address an unsafe condition on these products.

DATES: This AD becomes effective September 25, 2019.

The Director of the Federal Register approved the incorporation by reference of a certain document listed in this AD as of September 25, 2019.

The FAA must receive comments on this AD by November 12, 2019.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2019-0656; or in person at Docket Operations between 9 a.m. and 5 p.m., Monday through Friday, except Federal holidays. The AD docket contains this AD, the European Aviation Safety Agency (EASA) AD, any service information that is incorporated by reference, the economic evaluation, any comments received, and other information. The street address for Docket Operations is listed above. Comments will be available in the AD docket shortly after receipt.

For service information identified in this final rule, contact Airbus Helicopters, 2701 N Forum Drive, Grand Prairie, TX 75052; telephone (972) 641-0000 or (800) 232-0323; fax (972) 641-3775; or at http://www.helicopters.airbus.com/website/en/ref/Technical-Support_73.html. You may review the referenced service information at the FAA, Office of the Regional Counsel, Southwest Region, 10101 Hillwood Pkwy, Room 6N-321, Fort Worth, TX 76177. It is also available on the internet at http://www.regulations.gov by searching for and locating Docket No. FAA-2019-0656.

FOR FURTHER INFORMATION CONTACT: David Hatfield, Aviation Safety Engineer, Safety Management Section, Rotorcraft Standards Branch, FAA, 10101 Hillwood Pkwy., Fort Worth, TX 76177; telephone (817) 222-5110; email david.hatfield@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The FAA also invites comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. The FAA will file in the docket all comments that the FAA receives, as well as a report summarizing each substantive public contact with FAA personnel concerning this rulemaking during the comment period. The FAA will consider all the comments received and may conduct additional rulemaking based on those comments.

Discussion

EASA, which is the Technical Agent for the Member States of the European Union, has issued EASA AD No. 2019-0087-E, dated April 24, 2019, to correct an unsafe condition for Airbus Helicopters Deutschland GmbH (AHD), formerly Eurocopter Deutschland GmbH, Eurocopter España S.A. Model EC135 P1, EC135 P2, EC135 P2+, EC135 P3, EC135 T1, EC135 T2, EC135 T2+, EC135 T3, EC635 P2+, EC635 P3, EC635 T1, EC635 T2+ and EC635 T3 helicopters with a longitudinal single-axis actuator part number (P/N) L673M20A1008 or P/N L673M30A2111; a collective single‐axis actuator P/N L673M20A1012, P/N L673M30A1211, or P/N E673M30A1201; or a lateral single‐axis actuator P/N L673M20A1011 or P/N L673M30A2311, that have accumulated 6 or more years since manufacturing date or last overhaul, whichever occurred later, installed. EASA advises of a report of a hard landing by a Model EC135 helicopter. Inspection revealed that the tie bar inside the piston of the longitudinal single-axis actuator of the MRA was ruptured and displaced.

EASA states that this condition, if not detected and corrected, could lead to loss of control of the helicopter, possibly resulting in damage to the helicopter and/or injury to occupants. Accordingly, the EASA AD requires a one-time inspection for corrosion, reporting inspection results to AHD, and depending on findings, replacing parts at different compliance times. The EASA AD also allows installing an MRA that has any of the affected parts installed, provided the affected parts are inspected and replaced as required by the AD. The EASA AD states it is considered an interim action and further AD action may follow.

FAA's Determination

These helicopters have been approved by EASA and are approved for operation in the United States. Pursuant to the FAA's bilateral agreement with the European Union, EASA has notified the FAA of the unsafe condition described in the EASA AD. The FAA is issuing this AD because the FAA evaluated all information provided by EASA and determined the unsafe condition exists and is likely to exist or develop on other helicopters of these same type designs.

Related Service Information Under 1 CFR Part 51

Airbus Helicopters has issued Emergency Alert Service Bulletin No. EC135-67A-039, Revision 1, dated April 23, 2019. This service information specifies reviewing records to determine the date of manufacture or date of last overhaul of certain part-numbered single-axis actuators, procedures to visually inspect the single-axis actuators for the external appearance of corrosion, instruction to take photos of any corroded single-axis actuators, and report certain information to Airbus Helicopters. This service information also specifies replacing single-axis actuators and references Airbus Helicopters Service Bulletin No. EC135-67-040, Revision 0, dated April 25, 2019 (SB EC135-67-040), which is not incorporated by reference in this AD, for inspection criteria of serviceable parts and replacement procedures.

This service information is reasonably available because the interested parties have access to it through their normal course of business or by the means identified in the ADDRESSES section.

Other Related Service Information

Airbus Helicopters has issued SB EC135-67-040, which identifies procedures to inspect the longitudinal, collective, and lateral single‐axis actuators for corrosion and to replace those parts.

AD Requirements

This AD requires visually inspecting for corrosion all external surfaces of certain part-numbered longitudinal, collective, and lateral single‐axis actuators that have accumulated 6 or more years since manufacturing date or last overhaul, whichever occurs later. Based on the inspection outcome, this AD requires removing the single-axis actuators from service at different compliance times. This AD also requires reporting certain information, along with photos of any corrosion, to Airbus Helicopters.

Differences Between This AD and the EASA AD

The EASA AD applies to Model EC635 P2+, EC635 P3, EC635 T1, EC635 T2+ and EC635 T3 helicopters, whereas this AD does not because none of those models are FAA type-certificated. The EASA AD requires inspecting the single-axis actuators for the, “external appearance of corrosion,” whereas this AD requires inspecting for any corrosion. The EASA AD specifies longer compliance times for parts that have accumulated 6 to 10 years that do not have any corrosion. The FAA plans to publish a notice of proposed rulemaking to give the public an opportunity to comment on these longer compliance times.

Interim Action

The FAA considers this AD interim action. If final action is later identified, the FAA might consider further rulemaking then.

Costs of Compliance

The FAA estimates that this AD affects 311 helicopters of U.S. Registry. Labor costs are estimated at $85 per work-hour. Based on these numbers, the FAA estimates the following costs in order to comply with this AD.

Inspecting the single-axis actuators takes about 2 work-hours for an estimated cost of $170 per helicopter and $52,870 for the U.S. fleet. Replacing a single-axis actuator takes about 7 work-hours and parts cost about $20,000, for an estimated cost of $20,595 per replacement. Reporting the required information takes about 1 work-hour for an estimated cost of $85 per helicopter and $26,435 for the U.S. fleet.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Justification for Immediate Adoption and Determination of the Effective Date

Section 553(b)(3)(B) of the Administrative Procedure Act (APA) (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies foregoing notice and comment prior to adoption of this rule because some of the required actions must be completed within 3 days. Therefore, notice and opportunity for prior public comment are impracticable and contrary to public interest pursuant to 5 U.S.C. 553(b)(3)(B). In addition, for the reason(s) stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

The FAA prepared an economic evaluation of the estimated costs to comply with this AD and placed it in the AD docket.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-17-02 Airbus Helicopters Deutschland GmbH: Amendment 39-19722; Docket No. FAA-2019-0656; Product Identifier 2019-SW-039-AD.

(a) Applicability

This AD applies to Airbus Helicopters Deutschland GmbH (Airbus Helicopters) Model EC135P1, EC135P2, EC135P2+, EC135P3, EC135T1, EC135T2, EC135T2+, and EC135T3 helicopters, certificated in any category, with any of the following installed that have, as of April 23, 2019, accumulated 6 or more years since manufacturing date or last overhaul, whichever occurs later:

(1) Longitudinal single-axis actuator part number (P/N) L673M20A1008 or P/N L673M30A2111;

(2) Collective single‐axis actuator P/N L673M20A1012, P/N L673M30A1211, or P/N E673M30A1201; or

(3) Lateral single‐axis actuator P/N L673M20A1011or P/N L673M30A2311.

(b) Unsafe Condition

This AD defines the unsafe condition as corrosion in certain main rotor actuator (MRA) components. This condition could result in failure of the component, failure of the MRA, and loss of control of the helicopter.

(c) Effective Date

This AD becomes effective September 25, 2019.

(d) Compliance

You are responsible for performing each action required by this AD within the specified compliance time unless it has already been accomplished prior to that time.

(e) Required Actions

(1) Within 3 days, visually inspect all external surfaces of each single-axis actuator for corrosion. Refer to Figure 1 of Airbus Helicopters Emergency Alert Service Bulletin No. EC135-67A-039, Revision 1, dated April 23, 2019 (EASB EC135-67A-039), for example photos of single-axis actuators with corrosion. Refer to Figure 2 of EASB EC135-67A-039 for example photos of single-axis actuators without corrosion.

(i) If there is any corrosion, remove the part from service as follows:

(A) For a part that has accumulated 14 or more years, within 7 days.

(B) For a part that has accumulated 12 or more years, but less than 14 years, within 14 days.

(C) For a part that has accumulated 10 or more years, but less than 12 years, within 30 days.

(D) For a part that has accumulated 8 or more years, but less than 10 years, within 60 days.

(E) For a part that has accumulated 6 or more years, but less than 8 years, within 120 days.

(ii) If there is not any corrosion, remove the part from service as follows:

(A) For a part that has accumulated 14 or more years, within 14 days.

(B) For a part that has accumulated 12 or more years, but less than 14 years, within 30 days.

(C) For a part that has accumulated 10 or more years, but less than 12 years, within 90 days.

(2) Within 7 days after the inspection required by paragraph (e)(1) of this AD, report the information requested in the Reply Form Sheet for EASB “Check of single-axis actuators” of EASB EC135-67A-039, along with photos of any corrosion, by email to support.vehicle.ahd@airbus.com or by using the QR code to report to Airbus Helicopters. The QR code is available on page 12 of EASB EC135-67A-039.

(f) Special Flight Permits

Special flight permits are prohibited.

(g) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(h) Alternative Methods of Compliance (AMOCs)

(1) The Manager, Safety Management Section, Rotorcraft Standards Branch, FAA, may approve AMOCs for this AD. Send your proposal to: David Hatfield, Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(i) Additional Information

(1) Airbus Helicopters Service Bulletin No. EC135‐67‐040, Revision 0, dated April 25, 2019, which is not incorporated by reference, contains additional information about the subject of this AD. For service information identified in this AD, contact Airbus Helicopters, 2701 N Forum Drive, Grand Prairie, TX 75052; telephone (972) 641-0000 or (800) 232-0323; fax (972) 641-3775; or at http://www.helicopters.airbus.com/website/en/ref/Technical-Support_73.html. You may review a copy of the service information at the FAA, Office of the Regional Counsel, Southwest Region, 10101 Hillwood Pkwy., Room 6N-321, Fort Worth, TX 76177.

(2) The subject of this AD is addressed in European Aviation Safety Agency (EASA) AD No. 2019-0087-E, dated April 24, 2019. You may view the EASA AD on the internet at http://www.regulations.gov by searching for and locating it in Docket No. FAA-2019-0656.

(j) Subject

Joint Aircraft Service Component (JASC) Code: 67000, Rotorcraft Flight Control.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin No. EC135-67A-039, Revision 1, dated April 23, 2019.

(ii) [Reserved]

(3) For Airbus Helicopters service information identified in this AD, contact Airbus Helicopters, 2701 N Forum Drive, Grand Prairie, TX 75052; telephone (972) 641-0000 or (800) 232-0323; fax (972) 641-3775; or at http://www.helicopters.airbus.com/website/en/ref/Technical-Support_73.html.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on August 21, 2019.
Lance T. Gant,
Director, Compliance & Airworthiness Division, Aircraft Certification Service.

[FR Doc. 2019-18707 Filed 9-9-19; 8:45 am]

BILLING CODE 4910-13-P